DEPARTMENT OF THE TREASURY

Office of Foreign Assets Control

31 CFR Parts 542, 560, 591 and 594

Publication of Covid-Related Web General Licenses Related to Syria Sanctions Regulations, Iranian Transactions and Sanctions Regulations, Global Terrorism Sanctions Regulations, and Venezuela Sanctions Regulations.

AGENCY: Office of Foreign Assets Control, Treasury.

ACTION: Publication of web general licenses.

SUMMARY: The Department of the Treasury's Office of Foreign Assets Control (OFAC) is publishing three web general licenses (GLs) issued in the Syria Sanctions Regulations, Iran Transactions and Sanctions Regulations and Global Terrorism Sanctions Regulations, and Venezuela Sanctions Regulations, respectively: Syria GL 21B, Iran GL N-2, and Venezuela GL 39B, each of which was previously made available on OFAC's website.

DATES: Syria GL 21B, Iran GL N-2, and Venezuela GL 39B were issued on June 14, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On June 14, 2023, OFAC issued Syria GL 21B, Iran GL N-2, and Venezuela GL 39B to extend the authorization for certain transactions otherwise prohibited by, respectively: the Syria Sanctions Regulations, 31 CFR part 542; the Iranian Transactions and Sanctions Regulations, 31 CFR part 560, and the Global Terrorism Sanctions Regulations, 31 CFR part 594; and the Venezuela Sanctions Regulations, 31 CFR part 591. At the time of issuance, OFAC made all three GLs, each of which has an expiration date of June 14, 2024, available on its website (https://ofac.treasury.gov). The texts of the three GLs are provided below:

OFFICE OF FOREIGN ASSETS CONTROL

Syrian Sanctions Regulations

31 CFR part 542

GENERAL LICENSE NO. 21B

Authorizing Certain Activities To Respond to the Coronavirus Disease 2019 (COVID-19)

(a) Authorizing certain COVID-19-related transactions prohibited by the Syrian Sanctions Regulations. Except as provided in paragraph (b) of this general license, the following transactions and activities that are prohibited by the Syrian Sanctions Regulations, 31 CFR part 542 (SySR), are authorized through 12:01 a.m. eastern daylight time, June 14, 2024:

(1) Exportation of services related to COVID-19. All transactions and activities related to the exportation, reexportation, sale, or supply, directly or indirectly, of services to Syria that are related to the prevention, diagnosis, or treatment of COVID-19 (including research or clinical studies relating to COVID-19); and

(2) COVID-19-related transactions involving certain blocked persons. All transactions and activities involving the Government of Syria, Polymedics LLC, Letia Company, or any entity in which Polymedics LLC or Letia Company owns, whether individually or in the aggregate, directly or indirectly, a 50 percent or greater interest, that are related to the prevention, diagnosis, or treatment of COVID-19 (including research or clinical studies relating to COVID-19), provided that any exportation or reexportation of items to Syria must be licensed or otherwise authorized by the Department of Commerce.

(b) This general license does not authorize:

(1) The exportation or reexportation of any goods, technology, or services to military, intelligence, or law enforcement purchasers or importers;

(2) The unblocking of any property blocked pursuant to any part of 31 CFR chapter V; or

(3) Any transactions or activities otherwise prohibited by the SySR, or prohibited by any other part of 31 CFR chapter V, statute, or Executive order, or involving any blocked person other than the blocked persons identified in paragraph (a) of this general license.

(c) Effective June 14, 2023, General License 21A, dated June 10, 2022, is replaced and superseded in its entirety by this General License 21B.

Note 1 to General License 21B. Nothing in this general license relieves any person from compliance with the requirements of other Federal agencies, including the Department of Commerce's Bureau of Industry and Security or the Department of State's Directorate of Defense Trade Controls.

Andrea M. Gacki,

Director, Office of Foreign Assets Control.

Dated: June 14, 2023

OFFICE OF FOREIGN ASSETS CONTROL

Iranian Transactions and Sanctions Regulations

31 CFR part 560

Global Terrorism Sanctions Regulations

31 CFR part 594

GENERAL LICENSE N-2

Authorizing Certain Activities To Respond to the Coronavirus Disease 2019 (COVID-19)

(a) Authorizing certain COVID-19-related transactions prohibited by the Iranian Transactions and Sanctions Regulations. Except as provided in paragraphs (d) and (e) of this general license, the following transactions and activities that are prohibited by the Iranian Transactions and Sanctions Regulations, 31 CFR part 560 (ITSR), are authorized through 12:01 a.m. eastern daylight time, June 14, 2024:

(1) Exportation of goods or technology. All transactions and activities related to the exportation, reexportation, sale, or supply, directly or indirectly, of goods or technology for use in connection with the prevention, diagnosis, or treatment of COVID-19 (including research or clinical studies related to COVID-19) to Iran or the Government of Iran, or to persons in third countries purchasing specifically for resale to Iran or the Government of Iran;

(2) Importation of or dealings in certain COVID-19-related goods. All transactions and activities related to the importation into the United States of, or dealings in or related to, goods that previously were exported or reexported to Iran or the Government of Iran pursuant to this general license and that are broken, defective, or non-operational, or are connected to product recalls, adverse events, or other safety concerns, or for routine maintenance or the permanent return of such items to the United States or a third country; and

(3) Exportation or importation of services. All transactions and activities related to the exportation, reexportation, sale, or supply, directly or indirectly, of services to Iran or the Government of Iran, or the importation into the United States of, or dealings in or related to, Iranian-origin services, in each case that are related to the prevention, diagnosis, or treatment of COVID-19 (including research or clinical studies relating to COVID-19).

(b) Authorizing certain transactions involving the Central Bank of Iran (CBI) or the National Iranian Oil Company (NIOC). Except as provided in paragraph (e) of this general license, all transactions and activities described in paragraph (a) of this general license involving CBI, NIOC, or any entity in which NIOC owns, directly or indirectly, a 50 percent or greater interest, that are prohibited by the ITSR or the Global Terrorism Sanctions Regulations, 31 CFR part 594 (GTSR) are authorized through 12:01 a.m. eastern daylight time, June 14, 2024.

(c) Authorizing certain financial transactions. Except as provided in paragraph (e) of this general license, the processing of funds transfers or trade finance transactions that are ordinarily incident and necessary to give effect to the transactions and activities authorized in paragraphs (a) and (b) of this general license that are prohibited by the ITSR or the GTSR are authorized through 12:01 a.m. eastern daylight time, June 14, 2024.

(d) Any exportation or reexportation of goods or technology pursuant to paragraph (a) of this general license is subject to the following conditions:

(1) Any goods or technology exported or reexported must:

(i) Be designated as EAR99 under the Export Administration Regulations, 15 CFR parts 730 through 774 (EAR); or

(ii) In the case of goods or technology that are not subject to the EAR, not be listed on any multilateral export control regime; and

(2) All exports or reexports made pursuant to this general license must be concluded prior to the expiration date of this general license.

(e) This general license does not authorize:

(1) The exportation or reexportation of goods or technology to CBI, NIOC, or any entity in which NIOC owns, directly or indirectly, a 50 percent or greater interest;

(2) The exportation or reexportation of any goods, technology, or services to military, intelligence, or law enforcement purchasers or importers;

(3) The exportation or reexportation of any goods, technology, or services used to facilitate the development or production of a chemical or biological weapon or weapon of mass destruction;

(4) The unblocking of any property blocked pursuant to any part of 31 CFR chapter V; or

(5) Any transactions or activities otherwise prohibited by the ITSR or the GTSR, or prohibited by any other part of 31 CFR chapter V, involving any person blocked pursuant to the GTSR except as identified in paragraph (b) of this general license.

(f) Effective June 14, 2023, General License N-1, dated June 10, 2022, is replaced and superseded in its entirety by this General License N-2.

Note 1 to General License N-2. The export or reexport to Iran of certain food, medicine, medical devices, and agricultural commodities, as well as certain related transactions such as payments and brokering, are broadly authorized under sections 560.530, 560.532, and 560.533 of the ITSR, subject to certain conditions. In addition, transactions or activities authorized under those provisions that involve CBI, NIOC, or any entity in which NIOC owns, directly or indirectly, a 50 percent or greater interest, are also authorized pursuant to Counter Terrorism- and Iran-related General License No. 8A. Those authorizations remain in effect, including with respect to exports or reexports of food, medicine, medical devices, and agricultural commodities intended to respond to COVID-19 that satisfy the applicable criteria of those authorizations.

Note 2 to General License N-2. Nothing in this general license relieves any person from compliance with the requirements of other Federal agencies, including the Department of Commerce's Bureau of Industry and Security or the Department of State's Directorate of Defense Trade Controls.

Andrea M. Gacki,

Director, Office of Foreign Assets Control.

Dated: June 14, 2023.

OFFICE OF FOREIGN ASSETS CONTROL

Venezuela Sanctions Regulations

31 CFR part 591

GENERAL LICENSE NO. 39B

Authorizing Certain Activities To Respond to the Coronavirus Disease 2019 (COVID-19)

(a) Authorizing certain COVID-19-related transactions involving the Government of Venezuela. Except as provided in paragraph (c) of this general license, all transactions and activities involving the Government of Venezuela that are related to the prevention, diagnosis, or treatment of COVID-19 (including research or clinical studies relating to COVID-19), that are prohibited by Executive Order (E.O.) 13808 of August 27, 2017, as amended by E.O. 13857 of January 25, 2019, or E.O. 13884 of August 5, 2019, each as incorporated into the Venezuela Sanctions Regulations, 31 CFR part 591 (the VSR), are authorized through 12:01 a.m. eastern daylight time, June 14, 2024.

(b) Authorizing certain COVID-19-related transactions involving certain banks. Except as provided in paragraph (c) of this general license, all transactions and activities described in paragraph (a) of this general license involving Banco Central de Venezuela (BCV), Banco de Venezuela, S.A. Banco Universal (Banco de Venezuela), Banco Bicentenario del Pueblo, de la Clase Obrera, Mujer y Comunas, Banco Universal C.A. (Banco Bicentenario del Pueblo), or any entity in which BCV, Banco de Venezuela, or Banco Bicentenario del Pueblo owns, whether individually or in the aggregate, directly or indirectly, a 50 percent or greater interest, that are prohibited by E.O. 13850 of November 1, 2018, as amended by E.O. 13857, each as incorporated into the VSR, are authorized through 12:01 a.m. eastern daylight time, June 14, 2024.

(c) This general license does not authorize:

(1) The exportation or reexportation of any goods, technology, or services to military, intelligence, or law enforcement purchasers or importers;

(2) Any transactions or activities involving Petróleos de Venezuela, S.A. (PdVSA), Banco de Desarrollo Economico y Social de Venezuela (BANDES), or Banco Bandes Uruguay S.A. (Bandes Uruguay), or any entity in which PdVSA, BANDES, or Bandes Uruguay owns, whether individually or in the aggregate, directly or indirectly, a 50 percent or greater interest;

(3) The unblocking of any property blocked pursuant to any part of 31 CFR chapter V; or

(4) Any transactions or activities otherwise prohibited by the VSR, or prohibited by any other part of 31 CFR chapter V, statute, or E.O., or involving any blocked persons other than Government of Venezuela persons blocked solely pursuant to E.O. 13884 or the blocked persons identified in paragraph (b) of this general license.

(d) Effective June 14, 2023, General License 39A, dated June 10, 2022, is replaced and superseded in its entirety by this General License 39B.

Note 1 to General License 39B. Nothing in this general license relieves any person from compliance with the requirements of other Federal agencies, including the Department of Commerce's Bureau of Industry and Security or the Department of State's Directorate of Defense Trade Controls.

Andrea M. Gacki,

Director, Office of Foreign Assets Control.

Dated: June 14, 2023.

Andrea M. Gacki,
Director, Office of Foreign Assets Control.

[FR Doc. 2023-15137 Filed 7-17-23; 8:45 am]

BILLING CODE 4810-AL-P